DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than April 6, 2000.

Interested persons are invited to submit written comments regarding the subject matter of the investigations to the Director, Division of Trade Adjustment Assistance, at the address shown below, not later than April 6, 2000.

The petitions filed in this case are available for inspection at the Office of the Director, Division of Trade Adjustment Assistance, Employment and Training Administration, U.S. Department of Labor, 200 Constitution Avenue, NW., Washington, DC 20210.

Signed at Washington, DC this 6th day of March, 2000.
Grant D. Beale,
Program Manager, Division of Trade Adjustment Assistance.

Appendix.—Petitions Instituted on 03/06/2000
TA-W | Subject firm (petitioners) | Location | Date of petition | Product(s)
37,400 | Renfro Corp. (Wkrs) | South Pittsburg, IN | 02/17/2000 | Package Socks.
37,401 | Arbor Acres (Wkrs) | Carthage, MS | 02/12/2000 | Breeder Stock for Poultry.
37,402 | Midas International (Wkrs) | Bedford, IL | 02/05/2000 | Mufflers, Pipes, Brackets.
37,403 | R. Kaye Ltd (Co.) | New York, NY | 02/16/2000 | Rhinestone Buttons and Buckles.
37,404 | Border Apparel Laundry (UNITE) | El Paso, TX | 02/11/2000 | Jeans.
37,405 | GCC Cutting, Inc (Wkrs) | El Paso, TX | 01/14/2000 | Garment Cutting.
37,406 | York International (UAW) | Waynesboro, PA | 02/15/2000 | Oil Separators—Commercial Refrigeration.
37,407 | Briggs Manufacturing (GMP) | Robinson, IL | 02/04/2000 | Toilet Bowls, Lavatories Tanks.
37,408 | Raco—Hubbell (IUE) | So. Bend, IN | 02/07/2000 | Electrical Boxes and Fittings.
37,409 | Quaker Oats (UFCW) | St. Joseph, MO | 02/11/2000 | Ready to Eat Cereals.
37,410 | Trico Product of Lawrence (Wkrs) | Lawrenceburg, TN | 01/29/2000 | Windshield Wiper Systems.
37,411 | Monet Group (The) (Co.) | East Providence, RI | 02/18/2000 | Fashion Jewelry.
37,412 | Sun Apparel of Texas (Co.) | El Paso, TX | 02/22/2000 | Jeans, Jackets, Shirts & Shorts.
37,413 | Cebeco Lilies (Co.) | Aurora, OR | 02/16/2000 | Lily Bulbs.
37,414 | Proper International (Wkrs) | Waverly, TN | 02/11/2000 | Jeans, Shirts and Jackets.
37,415 | Parker Drilling Co (Wkrs) | Tulsa, OK | 02/24/2000 | Oil Drilling.
37,416 | Triboro Electric Co. (IBEW) | Doylestown, PA | 02/22/2000 | Lighting Components and Switches.
37,417 | Microtek Medical (Wkrs) | Columbus, MS | 02/16/2000 | Medical Drapes.
37,418 | Baker Atlas (Comp) | Prudhoe Bay, AK | 02/15/2000 | Wireline Logging.
37,419 | Compaq Computer (Wrks) | Houston, TX | 02/08/2000 | Printed Circuit Boards.
37,420 | Western Gas Resources (Wrks) | Midkiff, TX | 02/17/2000 | Natural Gas Processing.
37,421 | Whistler Automation (Comp) | Novi, MI | 02/26/2000 | Electronic Transmitters.
37,422 | BTR Sealing Systems (UNITE) | Maryville, TN | 02/23/2000 | Autombile Weatherstripping.
37,423 | Warren Leasing (Wrks) | New York, NY | 01/21/2000 | Woven Textiles.
37,424 | Pincus Brothers (UNITE) | Philadelphia, PA | 02/23/2000 | Men's Clothing.
37,425 | SKF USA, Inc (Wrks) | Glasgow, KY | 02/24/2000 | Hub Bearings.
37,426 | Leather Specialty Co/Howg (Comp) | Sanford, FL | 02/22/2000 | Tool Cases, Business Cases.
37,427 | Kongsberg (Wrks) | Livonia, MI | 02/15/2000 | Foam Seat Heaters.
37,428 | Valley Cities Apparel (Wrks) | Sayre, PA | 01/28/2000 | Lingerie—Sleepwear.
37,429 | Basset Upholstery (Wrks) | Dumas, AR | 02/22/2000 | Furniture.
37,430 | Square D Co. (IBEW) | OshKosh, WI | 02/17/2000 | Transformers.
37,431 | Magnecomp Corp (Comp) | Temecula, CA | 02/24/2000 | Computer Hard Disk, Drive Suspension.
37,432 | Globe Manufacturing Corp (Comp) | Fall River, MA | 02/24/2000 | Extruded Latex Thread.
37,433 | Smithville Sportswear (Wrks) | Smithville, TN | 02/24/2000 | Men's and Ladies' Knit Apparel.
37,434 | Bula, Inc. (Comp) | Durango, CO | 02/24/2000 | Winter Headwear.
37,435 | OshKosh B'Gosh, Inc (Comp) | OshKosh, WI | 02/23/2000 | Men's and Children's Clothing.
37,436 | Alliance Labeling (Wrks) | Allentown, PA | 02/15/2000 | Labeled Glass and Plastic Bottles.
37,437 | Elliot Turbomachinery (Comp) | Jeannette, PA | 02/15/2000 | Turbines and Compressors.

[FR Doc. 00-7478 Filed 3-24-00; 8:45 am]

BILLING CODE 4510-30-M